DEPARTMENT OF THE INTERIOR

Fish and Wildlife Service

50 CFR Part 17

[Docket No. FWS-HQ-ES-2023-0219; FXES1111090FEDR-245-FF09E21000]

RIN 1018-BH93

Endangered and Threatened Wildlife and Plants; List of Endangered and Threatened Wildlife: Updating Entries for Five Coral Species and Adding Three Nonessential Experimental Populations of Chinook Salmon

AGENCY: Fish and Wildlife Service, Interior.

ACTION: Final rule.

SUMMARY: We, the U.S. Fish and Wildlife Service (FWS), in accordance with the Endangered Species Act of 1973 (Act), as amended, are amending the List of Endangered and Threatened Wildlife (List) by updating the entries for five species of threatened Caribbean corals (Orbicella annularis, O. faveolata, O. franksi, Dendrogyra cylindrus, and Mycetophyllia ferox) to reflect the designation of critical habitat for these species. We are also amending the List by adding three nonessential experimental populations of Chinook salmon (Oncorhynchus tshawytscha): Upper Yuba River Central Valley spring-run, McCloud and Upper Sacramento Rivers Sacramento River winter-run, and Central Valley spring-run. These amendments are based on previously published determinations by the National Marine Fisheries Service (NMFS) of the National Oceanic and Atmospheric Administration, Department of Commerce, which has jurisdiction for these species.

DATES: This rule is effective August 12, 2024.

Applicability dates: The NMFS rulemaking actions were effective as follows:

• The Caribbean corals critical habitat designations were effective September 8, 2023.

• The designation of the Upper Yuba River Central Valley spring-run Chinook salmon nonessential experimental population was effective January 27, 2023.

• The designation of the McCloud and Upper Sacramento Rivers Sacramento River winter-run and Central Valley spring-run Chinook salmon nonessential experimental populations were effective September 27, 2023.

FOR FURTHER INFORMATION CONTACT: Caitlin Snyder, Chief, Branch of Domestic Listing, U.S. Fish and Wildlife Service, MS-ES, 5275 Leesburg Pike, Falls Church, VA 22041-3803; 703-358-2171. Individuals in the United States who are deaf, deafblind, hard of hearing, or have a speech disability may dial 711 (TTY, TDD, or TeleBraille) to access telecommunications relay services.

SUPPLEMENTARY INFORMATION:

Background

In accordance with the Act (16 U.S.C. 1531 et seq.) and Reorganization Plan No. 4 of 1970 (35 FR 15627; October 6, 1970), NMFS has jurisdiction over the marine and anadromous taxa specified in this rule. Under section 4(a)(1) of the Act, NMFS must decide whether a species under its jurisdiction should be classified as endangered or threatened. Under section 4(a)(3)(A) of the Act, NMFS must designate critical habitat for listed species under its jurisdiction to the maximum extent prudent and determinable. Section 10(j) of the Act allows the Secretary of Commerce to authorize the release of any population of a listed species outside its current range if the release “will further the conservation” of that species. An experimental population is a population that is geographically separate from nonexperimental populations of the same species. Before authorizing the release of an experimental population, section 10(j)(2)(B) of the Act requires that the Secretary must by regulation identify the population and determine, on the basis of the best available information, whether or not the population is essential to the continued existence of the listed species. NMFS makes these determinations via its rulemaking process; then FWS is responsible for publishing final rules to amend the List in title 50 of the Code of Federal Regulations (CFR) at 50 CFR 17.11(h).

Caribbean Corals—Critical Habitat Designations

We are updating the entries on the List for Orbicella annularis, O. faveolata, O. franksi, Dendrogyra cylindrus, and Mycetophyllia ferox to reflect the designation of critical habitat for these five species of Caribbean corals. On November 27, 2020, NMFS published a proposed rule (85 FR 76302) to designate critical habitat for these five coral species and solicited public comments on the proposed rule during a 60-day comment period, ending on January 26, 2021. NMFS addressed all public comments received in response to the proposed rule, and on August 9, 2023, published a final rule (88 FR 54026) designating critical habitat for these five coral species. These critical habitat designations were effective September 8, 2023. By publishing this final rule, we are simply taking the necessary administrative step to codify these changes in the List at 50 CFR 17.11(h).

Chinook Salmon—Nonessential Experimental Populations

We are also adding entries on the List for the Upper Yuba River Central Valley spring-run Chinook salmon (Oncorhynchus tshawytscha) nonessential experimental population (NEP), the McCloud and Upper Sacramento Rivers Sacramento River winter-run Chinook salmon (O. tshawytscha) NEP, and the Central Valley spring-run Chinook salmon (O. tshawytscha) NEP (also referred to as Central Valley spring-run ESU-XN Yuba, Sacramento River winter-run ESU-XN Shasta, and Central Valley spring-run ESU-XN Shasta, respectively). On December 11, 2020, NMFS published a proposed rule (85 FR 79980) for the designation of an NEP of Central Valley spring-run Chinook salmon in the Upper Yuba River. NMFS solicited public comments on the proposed rule during a 30-day comment period ending January 11, 2021. The comment period was extended for an additional 60 days ending on March 12, 2021 (86 FR 2372; January 12, 2021). NMFS addressed all public comments received in response to the proposed rule, and on December 28, 2022, published a final rule (87 FR 79808) designating the population as an NEP. The designation was effective January 27, 2023.

On May 12, 2023, NMFS published a proposed rule (88 FR 30690) to designate the McCloud and Upper Sacramento Rivers Sacramento River winter-run and Central Valley spring-run Chinook salmon populations as NEPs. NMFS solicited public comments on the proposed rule during a 30-day comment period ending June 12, 2023. NMFS addressed all public comments received in response to the proposed rule and on August 28, 2023, published a final rule (88 FR 58511) designating the population as an NEP. The designation was effective September 27, 2023.

By publishing this final rule, we are simply taking the necessary administrative step to codify these changes in the List at 50 CFR 17.11(h).

Administrative Procedure Act

Because NMFS provided public comment periods on the proposed rules for these taxa, and because this action of FWS is to amend the List in accordance with the determination by NMFS under section (4)(a)(2) of the Act, FWS finds good cause that the notice and public comment procedures of 5 U.S.C. 553(b) are unnecessary for this action. We also find good cause under 5 U.S.C. 553(d)(3) to make this rule effective immediately. The NMFS rules extended protection under the Act to these species and amended 50 CFR parts 223 and 226 to designate nonessential experimental populations and establish special rules for these populations, and to designate critical habitat for the five coral species. This rule is an administrative action to update the List at 50 CFR 17.11(h). The public would not be served by delaying the effective date of this rulemaking action.

Required Determinations

National Environmental Policy Act

We have determined that an environmental assessment (EA), as defined under the authority of the National Environmental Policy Act of 1969 (NEPA), need not be prepared in connection with regulations adopted pursuant to section 4(a) of the Act. We outlined our reasons for this determination in the Federal Register on October 25, 1983 (48 FR 49244).

In compliance with all provisions of NEPA, NMFS analyzed the impact on the human environment and considered a reasonable range of alternatives for the final rules to designate these three nonessential experimental populations of Chinook salmon. Draft EAs were made available for comments with the publication of the proposed rules, and NMFS responded to those comments in their final rules (87 FR 79808, December 28, 2022; and 88 FR 58511, August 28, 2023). Additionally, NMFS prepared a final EA and finding of no significant impact on each NEP designation of Chinook salmon and made these documents available for public inspection.

List of Subjects in 50 CFR Part 17

Endangered and threatened species, Exports, Imports, Plants, Reporting and recordkeeping requirements, Transportation, Wildlife.

Regulation Promulgation

Accordingly, we amend part 17, subchapter B of chapter I, title 50 of the CFR, as set forth below:

PART 17—ENDANGERED AND THREATENED WILDLIFE AND PLANTS

1. The authority citation for part 17 continues to read as follows:

Authority: 16 U.S.C. 1361-1407; 1531-1544; and 4201-4245; unless otherwise noted.

2. In § 17.11, in paragraph (h), amend the List of Endangered and Threatened Wildlife by:

a. Under FISHES, adding in alphabetical order entries for “Salmon, Chinook [Central Valley spring-run ESU-XN Shasta]”, “Salmon, Chinook [Central Valley spring-run ESU-XN Yuba]”, and “Salmon, Chinook [Sacramento River winter-run ESU-XN Shasta]”.

b. Under CORALS, revising the entries for “Coral, boulder star”, “Coral, lobed star”, “Coral, mountainous star”, “Coral, pillar”, and “Coral, rough cactus”.

The additions and revisions read as follows:

§ 17.11 Endangered and threatened wildlife.

* * * * *

(h) * * *

Common name | Scientific name | Where listed | Status | Listing citations and applicable rules
* * * * * * *
Fishes
* * * * * * *
Salmon, Chinook [Central Valley spring-run ESU-XN Shasta] | Oncorhynchus tshawytscha | Central Valley spring-run ESU-XN Shasta—see 50 CFR 223.102 | XN | 88 FR 58511, 8/28/2023; N 89 FR [Insert Federal Register page where the document begins], 8/12/2024; 50 CFR 223.301.10j
Salmon, Chinook [Central Valley spring-run ESU-XN Yuba] | Oncorhynchus tshawytscha | Central Valley spring-run ESU-XN Yuba—see 50 CFR 223.102 | XN | 87 FR 79808, 12/28/2022; N 89 FR [insert Federal Register page where the document begins], 8/12/2024; 50 CFR 223.301.10j
* * * * * * *
Salmon, Chinook [Sacramento River winter-run ESU-XN Shasta] | Oncorhynchus tshawytscha | Sacramento winter-run ESU-XN Shasta—see 50 CFR 223.102 | XN | 88 FR 58511, 8/28/2023; N 89 FR [insert Federal Register page where the document begins], 8/12/2024; 50 CFR 223.301.10j
* * * * * * *
Corals
* * * * * * *
Coral, boulder star | Orbicella franksi | Wherever found | T | 79 FR 53852, 9/10/2014; N 79 FR 67356, 11/13/2014; 50 CFR 226.230.CH
* * * * * * *
Coral, lobed star | Orbicella annularis | Wherever found | T | 79 FR 53852, 9/10/2014; N 79 FR 67356, 11/13/2014; 50 CFR 226.230.CH
Coral, mountainous star | Orbicella faveolata | Wherever found | T | 79 FR 53852, 9/10/2014; N 79 FR 67356, 11/13/2014; 50 CFR 226.230.CH
Coral, pillar | Dendrogyra cylindrus | Wherever found | T | 79 FR 53852, 9/10/2014; N 79 FR 67356, 11/13/2014; 50 CFR 226.230.CH
Coral, rough cactus | Mycetophyllia ferox | Wherever found | T | 79 FR 53852, 9/10/2014; N 79 FR 67356, 11/13/2014; 50 CFR 226.230.CH
* * * * * * *

* * * * *

Martha Williams,
Director, U.S. Fish and Wildlife Service.

[FR Doc. 2024-17435 Filed 8-9-24; 8:45 am]

BILLING CODE 4333-15-P